FEDERAL DEPOSIT INSURANCE CORPORATION

Sunshine Act Meeting

Pursuant to the provisions of the “Government in the Sunshine Act” (5 U.S.C. 552b), notice is hereby given that the Federal Deposit Insurance Corporation's Board of Directors will meet in open session at 1:00 p.m. on Tuesday, September 17, 2019, to consider the following matters:

Summary Agenda

No substantive discussion of the following items is anticipated. These matters will be resolved with a single vote unless a member of the Board of Directors requests that an item be moved to the discussion agenda.

Disposition of Minutes of a Board of Directors' Meeting Previously Distributed.

Memorandum and resolution re: Final Rule to Apply CBLR Framework to Deposit Insurance Assessment System.

Memorandum and resolution re: Notice of Proposed Rulemaking—Removal of Transferred OTS Regulations Regarding Accounting Requirements for State Savings Associations.

Memorandum and resolution re: Notice of Proposed Rulemaking to Rescind Regulations Transferred from the Former Office of Thrift Supervision, Part 390, Subpart R—Regulatory Reporting Standards.

Memorandum and resolution re: Proposed Rescission of Certain Statements of Policy.

Memorandum and resolution re: Regulatory Capital Rule: Simplifications to the Capital Rule Pursuant to the Economic Growth and Regulatory Paperwork Reduction Act of 1996; Revised Effective Date.

Summary report of actions taken pursuant to authority delegated by the Board of Directors.

Discussion Agenda

Memorandum and resolution re: Regulatory Capital Rule: Capital Simplification for Qualifying Community Banking Organizations.

Memorandum and resolution re: Notice of Proposed Rulemaking on Swap Margin Requirements.

The meeting will be held in the Board Room located on the sixth floor of the FDIC Building located at 550 17th Street NW, Washington, DC.

This Board meeting will be Webcast live via the internet and subsequently made available on-demand approximately one week after the event. Visit http://fdic.windrosemedia.com to view the event. If you need any technical assistance, please visit our Video Help page at: https://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated at Washington, DC, on September 10, 2019. Federal Deposit Insurance Corporation.
Valerie Best,
Assistant Executive Secretary.

[FR Doc. 2019-19934 Filed 9-11-19; 11:15 am]

BILLING CODE 6714-01-P